DEPARTMENT OF ENERGY

Federal Energy Regulatory Commission

[Docket No. RP01-382-005]

Northern Natural Gas Company; Notice of Compliance Filing

August 31, 2001.

Take notice that on August 24, 2001, Northern Natural Gas Company (Northern), tendered for filing as part of its FERC Gas Tariff, Fifth Revised Volume No. 1, the following tariff sheets proposed to be effective August 1, 2001:

Seventh Revised Sheet No. 263

Third Revised Sheet No. 263B

Third Revised Sheet No. 263C

Northern states that the filing is being made in compliance with the Commission's Order dated July 27, 2001.

Northern further states that copies of the filing have been mailed to each of its customers and interested State Commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22494 Filed 9-6-01; 8:45 am]

BILLING CODE 6717-01-P